DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received within 30 days of this notice.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: Information Collection Request Title: The National Health Service Corps Loan Repayment Program.

OMB No. 0915-0127—Revision.

Abstract: The National Health Service Corps (NHSC) Loan Repayment Program (LRP) was established to assure an adequate supply of trained primary care health professionals to provide services in the neediest Health Professional Shortage Areas (HPSAs) of the United States. Under this program, the Department of Health and Human Services agrees to repay the qualifying educational loans of selected primary care health professionals. In return, the health professionals agree to serve for a specified period of time in a federally designated HPSA approved by the Secretary for LRP participants. The forms utilized by the LRP include the following: The NHSC LRP Application, the Authorization for Disclosure of Loan Information form, the Privacy Act Release Authorization form, the Verification of Disadvantaged Background form, and the Private Practice Option form. The first four of the aforementioned NHSC LRP forms collect information that is needed for selecting participants and repaying qualifying educational loans. The last referenced form, the Private Practice Option Form, is required by statute (42 U.S.C. 254n(a)) for all participants wishing to exercise that service option.

Need and Proposed Use of the Information: The need and purpose of this information collection is to obtain information for the NHSC LRP application. The information is used to consider an applicant for a NHSC LRP contract award. Applicants must submit an application to the NHSC to participate in the program. The application asks for personal, professional, and financial information required to determine the applicant's eligibility to participate in the NHSC LRP. In addition, applicants must enter in information regarding the loans for which repayment is being requested.

Likely Respondents: Licensed primary care medical, dental, and mental and behavioral health providers who are employed or seeking employment, and are interested in serving underserved populations.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
NHSC LRP Application | 8,200 | 1 | 8,200 | 1.0 | 8,200
Authorization for Disclosure of Loan Information Form | 150 | 1 | 150 | .10 | 15
Privacy Act Release Authorization Form | 100 | 1 | 100 | .10 | 10
Verification of Disadvantaged Background Form | 600 | 1 | 600 | .50 | 300
Private Practice Option Form | 300 | 1 | 300 | .10 | 30
Total | 9,350 |  | 9,350 |  | 8,555

Dated: November 12, 2013.
Bahar Niakan,
Director, Division of Policy and Information Coordination.

[FR Doc. 2013-27840 Filed 11-19-13; 8:45 am]

BILLING CODE 4165-15-P